DEPARTMENT OF ENERGY

Federal Energy Regulatory Commission

Notice of Intent to File an Application for a New License

March 23, 2001.

a. Type of Filing: Notice of Intent to File An Application for a New License.

b. Project No.: 2692.

c. Date Filed: August 7, 2000.

d. Submitted By: Nantahala Power and Light—current licensee.

e. Name of Project: Nantahala Hydroelectric Project.

f. Location: On the Nantahala River, Dicks Creek, and White Oak Creek in Clay and Macon Counties, North Carolina. The project does not utilize federal lands.

g. Filed Pursuant to: Section 15 of the Federal Power Act.

h. Licensee Contact: John C. Wishon, Nantahala Power and Light, 301 NP&L Loop, Franklin, NC 28734 (828) 369-4604.

j. FERC Contact: Steve Kartalia, steve.kartalia@ferc.fed.us, (202) 219-2942.

j. Effective date of current license: May 1, 1965.

k. Expiration date of current license: February 28, 2006.

l. Description of the Project: The project consists of the following three developments and diversions:

The Nantahala Development consists of the following existing facilities: (1) a 1,042-foot-long, 250-foot-high earth and rockfill dam; (2) a spillway having four Taintor gates and two fuse plugs; (3) a 1,605-acre reservoir at a normal water surface elevation of 3,012.16 feet USC & GS datum; (4) a 5.6-mile-long conduit including tunnels, steel pipes and penstocks and surge tank; (5) a powerhouse containing a single generating unit with an installed capacity of 43,200 kW, and (6) other appurtenances.

The Dicks and Creek Diversion consists of the following existing facilities: (1) a 109-foot-long, 16-foot-high concrete gravity dam with a spillway topped with 3-foot-high flashboards; (2) the Diamond Valley concrete gravity dam diverting water into Dicks Creek through a 320-foot-long pipeline; and (3) a 3,870-foot-long, 24-inch-diameter pipeline extending from the Dicks Creek Diversion Dam to a junction with the Nantahala Development conduit.

The White Oak Diversion consists of the following existing facilities: (1) a 115-foot-long, 16-foot-long concrete gravity dam with a spillway topped with 7-foot-high flashboards; and (2) a 2.2-mile-long pipeline extending from the White Oak Diversion Dam to a junction with the Nantahala Development conduit.

m. Each application for a new license and any competing license applications must be filed with the Commission at least 24 months prior to the expiration of the existing license. All applications for license for this project must be filed by February 28, 2004.

Linwood A. Watson, Jr.,
Acting Secretary.

[FR Doc. 01-7716 Filed 3-28-01; 8:45 am]

BILLING CODE 6717-01-M